SMALL BUSINESS ADMINISTRATION

[Declaration of Disaster #3291]

State of Idaho

As a result of the President's major disaster declaration on September 1, 2000, I find that the following Counties and Indian Reservation in the State of Idaho constitute a disaster area due to damages caused by wildfires beginning on July 27, 2000 and continuing: Bannock, Boise, Clearwater, Elmore, Idaho, Jerome, Lemhi, Lewis, and Power Counties, and the Fort Hall Indian Reservation. Applications for loans for physical damage as a result of this disaster may be filed until the close of business on October 31, 2000, and for loans for economic injury until the close of business on June 1, 2001 at the address listed below or other locally announced locations:

U.S. Small Business Administration, Disaster Area 4 Office, P.O. Box 13795, Sacramento, CA 95853-4795

In addition, applications for economic injury loans from small businesses located in the following contiguous counties may be filed until the specified date at the above location: Ada, Adams, Bingham, Blaine, Butte, Camas, Caribou, Cassia, Clark, Custer, Franklin, Gem, Gooding, Latah, Lincoln, Minidoka, Nez Perce, Oneida, Owyhee, Shoshone, Twin Falls, and Valley Counties in Idaho, and Wallowa County, Oregon. All contiguous counties in the State of Montana have been declared under a separate declaration for that State.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 329105. For economic injury the numbers are 9I5600 for Idaho and 9I5700 for Oregon.

(Catalog of Federal Domestic Assistance Program Nos. 59002 and 59008)
Dated: September 5, 2000.
Herbert L. Mitchell,
Acting Associate Administrator for Disaster Assistance.

[FR Doc. 00-23760 Filed 9-14-00; 8:45 am]

BILLING CODE 8025-01-P